ENVIRONMENTAL PROTECTION AGENCY

[ER-FRL-9015-8]

Environmental Impact Statements; Notice of Availability

Responsible Agency: Office of Federal Activities, General Information (202) 564-7146 or http://www.epa.gov/compliance/nepa/.

Weekly receipt of Environmental Impact Statements

Filed 06/30/2014 through 07/03/2014

Pursuant to 40 CFR 1506.9.

Notice

Section 309(a) of the Clean Air Act requires that EPA make public its comments on EISs issued by other Federal agencies. EPA's comment letters on EISs are available at: http://www.epa.gov/compliance/nepa/eisdata.html.

EIS No. 20140186, Final EIS, USFS, NM, Valles Caldera National Preserve—Landscape Restoration and Stewardship Plan, Review Period Ends: 08/11/2014, Contact: Marie Rodriguez 505-661-3333.

EIS No. 20140187, Second Final Supplement, USACE, WA, Grays Harbor Navigation Improvement Project, Review Period Ends: 08/11/2014, Contact: Leah Wickstrom 206-764-3652.

EIS No. 20140188, Final EIS, NPS, FL, Canaveral National Seashore Final General Management Plan, Review Period Ends: 08/11/2014, Contact: Chris Church 303-969-2276.

EIS No. 20140189, Draft EIS, USFS, CO, Middle Bald Mountain Area Communication Site, Comment Period Ends: 08/25/2014, Contact: Carol Kruse 970-295-6663.

EIS No. 20140190, Revised Draft EIS, USFS, 00, Greater Sage Grouse Bi-State Distinct Population Segment Forest Plan Amendment, Comment Period Ends: 10/09/2014, Contact: James Winfrey 775-355-5308.

Dated: July 8, 2014.
Dawn Roberts,
Management Analyst, NEPA Compliance Division, Office of Federal Activities.

[FR Doc. 2014-16245 Filed 7-10-14; 8:45 am]

BILLING CODE 6560-50-P